DEPARTMENT OF DEFENSE

Department of the Navy

Notice of Intent To Grant Exclusive Patent License

AGENCY: Department of the Navy, DOD.

ACTION: Notice.

SUMMARY: In accordance with 37 CFR 404, announcement is made of the intent to exclusively license U.S. Navy patent number 5,520,331 entitled “Liquid Atomizing Nozzle”.

The patent intended to be licensed has been assigned to the United States of America as represented by the Secretary of the Navy, Washington, DC.

DATES: Anyone wishing to object to the grant of this license must file written objections along with supporting evidence, not later than September 25, 2000.

ADDRESSES: Written objections are to be filed with the Business Development Office, NAWCAD, Lakehurst, New Jersey 08733, telephone (732) 323-2948, E-mail: kohlerhk@navair.navy.mil.

FOR FURTHER INFORMATION CONTACT: Hans Kohler, Business Development Office, NAWCAD, Lakehurst, New Jersey 08733, telephone(732) 323-2948, E-mail: kohlerhk@navair.navy.mil.

SUPPLEMENTARY INFORMATION: This patent covers a convergent/divergent gas nozzle, which atomizes a liquid provided through a delivery tube, providing an extremely fine mist having a high momentum. The nozzle is particularly well suited to fire extinguishment.

Under the authority of Section 11(a)(2) of the Federal Technology Transfer Act of 1986 (Public Law 99-502) and Section 207 of Title 35, United States Code, the Department of the Navy, as represented by the Naval Air Warfare Center, intends to exclusively license this invention to International Aero, Inc., a small business which is interested in manufacturing, using, and/or selling devices or processes involved in this invention.

Dated: July 18, 2000.
J.L. Roth,
Lieutenant Commander, Judge Advocate General's Corps, U.S. Navy, Federal Register Liaison Officer.

[FR Doc. 00-19019 Filed 7-26-00; 8:45 am]

BILLING CODE 3810-FF-P